DEPARTMENT OF AGRICULTURE

Forest Service

Notice of New Recreation Fee Site; Federal Lands Recreation Enhancement Act, (Title VIII, Pub. L. 108-447)

AGENCY: Caribou-Targhee National Forest, USDA Forest Service.

ACTION: Notice of New Fee Site.

SUMMARY: The Caribou-Targhee National Forest is proposing to charge a $35 fee for the overnight (summer use only) rental of Diamond Creek Guard Station. The guard station is used in the winter time as a warming hut but is currently unused during the summer season. Fees are assessed based on the level of amenities and services provided, cost of operations and maintenance, market assessment and public comment. The fee is proposed and will be determined upon further analysis and public comment. To date, an analysis of the cabin shows that the proposed fees are reasonable and typical of similar sites in the area. Rentals of other cabins on the Caribou-Targhee National Forest have shown that publics appreciate and enjoy the availability of historic and other type rental cabins. Funds from fees will be used for the continued operation and maintenance of the Diamond Creek Guard Station.

DATES: Comments will be accepted through June 15, 2010. Diamond Creek Guard Station will become available for rent beginning May 1 through Oct 30 of each summer season. The cabin will not be available for rent during the winter season.

ADDRESSES: Forest Supervisor, Caribou-Targhee National Forest, 1405 Hollipark Dr., Idaho Falls, Idaho 83401.

FOR FURTHER INFORMATION CONTACT: Jared Mattson on the Montpelier RD at 208-847-8946.

SUPPLEMENTARY INFORMATION: The Federal Recreation Lands Enhancement Act (Title VII, Pub. L. 108-447) directed the Secretary of Agriculture to publish a six month advance notice in the Federal Register whenever new recreation fee areas are established. The Caribou-Targhee National Forest currently has nine other cabin rentals. These rentals are often fully booked throughout their rental season. A business analysis of Diamond Creek Guard Station has shown that people desire having this sort of recreation experience on the Caribou-Targhee National Forest. A market analysis indicates that the $35/per night fee is both reasonable and acceptable for this sort of unique recreation experience.

People wanting to rent Diamond Creek Guard Station will need to do so through the National Recreation Reservation Service, at http://www.recreation.gov or by calling 1-877-444-6777. The National Recreation Reservation Service charges a $9 fee for reservations.

Dated: January 13, 2009.
Brent L. Larson,
Caribou-Targhee National Forest Supervisor.

[FR Doc. 2010-1218 Filed 1-26-10; 8:45 am]

BILLING CODE 3410-11-M